DEPARTMENT OF ENERGY

Federal Energy Regulatory Commission

[Project No. 10805-059]

Midwest Hydraulic Company, LLC; Notice of Drawdown, Temporary Variance and Soliciting Comments

Take notice that the following hydroelectric application has been filed with the Commission and is available for public inspection:

a. Types of Application: Temporary Variance from License Article 401.

b. Project No.: 10805-059.

c. Date Filed: June 11, 2019.

d. Applicants: Midwest Hydraulic Company, LLC.

e. Name of Projects: Hatfield Hydroelectric Project.

f. Location: The project is located on the Black River, in the Township of Hatfield, in Jackson and Clarke counties, Wisconsin.

g. Filed Pursuant to: Federal Power Act, 16 U.S.C. 791a-825r.

h. Applicant Contact: Mr. Dwight Bowler, Midwest Hydraulic Company, LLC, c/o Black River Partners, 813 Jefferson Hill Road, Nassau, New York (518) 766-2753.

i. FERC Contact: Mr. Mark Pawlowski, (202) 502-6052, mark.pawlowski@ferc.gov.

j. Deadline for filing comments, is 15 days from the issuance date of this notice by the Commission. All documents may be filed electronically via the internet. See, 18 CFR 385.2001(a)(1)(iii) and the instructions on the Commission's website at http://www.ferc.gov/docs-filing/efiling.asp. If unable to be filed electronically, documents may be paper-filed. To paper-file, an original and seven copies should be mailed to: Secretary, Federal Energy Regulatory Commission, 888 First Street NE, Washington, DC 20426. Commenters can submit brief comments up to 6,000 characters, without prior registration, using the eComment system at http://www.ferc.gov/docs-filing/ecomment.asp. You must include your name and contact information at the end of your comments. Please include the project number (P-10805-059) on any comments, motions, or recommendations filed.

k. Description of Request: The licensee must lower the water surface elevation of the project's 2.4-mile-long power canal by approximately 13 feet from its normal water surface elevation to make repairs to the canal embankment. Article 401 of the project license requires the licensee to maintain the water surface elevation of the power canal at 879.0 ± 0.1 feet National Geodetic Vertical Datum (NGVD). The licensee proposes a drawdown rate of 0.5 feet per day and would be expected to take about 26 days. The refill of the power canal is estimated to occur in winter or spring of 2020.

l. Locations of the Application: A copy of the application is available for inspection and reproduction at the Commission's Public Reference Room, located at 888 First Street NE, Room 2A, Washington, DC 20426, or by calling (202) 502-8371. This filing may also be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Comments: Anyone may submit comments in accordance with the requirements of Rules of Practice and Procedure, 18 CFR 385.210, .211, .214. Any comments must be received on or before the specified comment date for the particular application.

n. Filing and Service of Responsive Documents: Any filing must (1) bear in all capital letters the title “COMMENTS”, as applicable; (2) set forth in the heading the name of the applicant and the project number of the application to which the filing responds; and (3) otherwise comply with the requirements of 18 CFR 385.2001 through 385.2005. All comments must set forth their evidentiary basis and otherwise comply with the requirements of 18 CFR 4.34(b). All comments should relate to project works which are the subject of this application. Agencies may obtain copies of the application directly from the applicant. A copy of all other filings in reference to this application must be accompanied by proof of service on all persons listed in the service list prepared by the Commission in this proceeding, in accordance with 18 CFR 4.34(b) and 385.2010.

Dated: June 18, 2019.
Nathaniel J. Davis, Sr.,
Deputy Secretary.

[FR Doc. 2019-13347 Filed 6-21-19; 8:45 am]

BILLING CODE 6717-01-P